GENERAL SERVICES ADMINISTRATION

[Notice—FTR 2013-05; Docket 2013-0002; Sequence 40]

Privately Owned Vehicle Mileage Reimbursement Rates

AGENCY: Office of Government-wide Policy (OGP), General Services Administration (GSA).

ACTION: Notice of FTR Bulletin 14-03, Calendar Year (CY) 2014 Privately Owned Vehicle Mileage Reimbursement Rates.

SUMMARY: The General Services Administration's annual privately owned vehicle (POV) mileage reimbursement rate reviews have resulted in new CY 2014 rates for the use of privately owned automobiles (POA), POAs when Government owned automobiles (GOA) are authorized, privately owned motorcycles, and privately owned airplanes for official purposes. FTR Bulletin 14-03 establishes the new CY 2014 mileage reimbursement rates ($0.56 for POAs, $0.235 for POAs when a GOA is authorized, $0.53 for privately owned motorcycles, and $1.31 for privately owned airplanes) pursuant to the process discussed below. This notice of subject bulletin is the only notification of revisions to the POV rates to agencies other than the changes posted on the GSA Web site. GSA determines these rates by reviewing the annual standard automobile study contracted for by the Internal Revenue Service, as well as conducting independent automobile, motorcycle, and aircraft studies that evaluate various factors, such as the cost of fuel, the depreciation of the original vehicles costs, maintenance and insurance, and or by applying consumer price index data.

DATES: Effective date: This notice is effective December 18, 2013 and applies to travel performed on or after January 1, 2014 through December 31, 2014.

FOR FURTHER INFORMATION CONTACT: For clarification of content, please contact Mr. Cy Greenidge, Office of Government-wide Policy, Office of Asset and Transportation Management, at 202 219-2349, or by email at travelpolicy@gsa.gov. Please cite Notice of FTR Bulletin 14-03.

SUPPLEMENTARY INFORMATION:

Change in Standard Procedure

GSA posts the POV mileage reimbursement rates, formerly published in 41 CFR Chapter 301, solely on the internet at www.gsa.gov/ftr. This process, implemented in FTR Amendment 2010-07 (75 FR 72965, Nov. 29, 2010), ensures more timely updates in mileage reimbursement rates by GSA for Federal employees on official travel. Notices published periodically in the Federal Register, such as this one, and the changes posted on the GSA Web site, now constitute the only notification of revisions to privately owned vehicle reimbursement rates for Federal agencies.

Dated: December 12, 2013.
Carolyn Austin-Diggs,
Acting Deputy Associate Administrator, Office of Asset and Transportation Management, Office of Government-Wide Policy.

[FR Doc. 2013-30069 Filed 12-17-13; 8:45 am]

BILLING CODE 6820-14-P